SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: February 1-28, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and (f) for the time period specified above.

Water Source Approval—Issued Under 18 CFR 806.22(f):

1. BKV Operating, LLC; Pad ID: Bonnice 2; ABR-201011023.R2; Jessup Township, Susquehanna County, Pa.; Consumptive Use of Up to 5.0000 mgd; Approval Date: February 9, 2023.

2. Blackhill Energy LLC; Pad ID: NICHOLS 1H Pad; ABR-201008090.R2; Smithfield Township, Bradford County, Pa.; Consumptive Use of Up to 4.9900 mgd; Approval Date: February 9, 2023.

3. Chesapeake Appalachia, L.L.C.; Pad ID: Dunny; ABR-201011066.R2; Windham Township, Wyoming County, Pa.; Consumptive Use of Up to 7.5000 mgd; Approval Date: February 9, 2023.

4. Chesapeake Appalachia, L.L.C.; Pad ID: Lytwyn; ABR-201011028.R2; Smithfield Township, Bradford County, Pa.; Consumptive Use of Up to 7.5000 mgd; Approval Date: February 9, 2023.

5. Coterra Energy Inc.; Pad ID: EmpetD P1; ABR-201211007.R2; Harford Township, Susquehanna County, Pa.; Consumptive Use of Up to 5.0000 mgd; Approval Date: February 9, 2023.

6. Coterra Energy Inc.; Pad ID: McLeanD P1; ABR-201211009.R2; Lathrop Township, Susquehanna County, Pa.; Consumptive Use of Up to 5.0000 mgd; Approval Date: February 9, 2023.

7. Coterra Energy Inc.; Pad ID: WoodE P1; ABR-201211008.R2; Dimock Township, Susquehanna County, Pa.; Consumptive Use of Up to 5.0000 mgd; Approval Date: February 9, 2023.

8. EOG Resources, Inc.; Pad ID: RIGHTMIRE 2H Pad; ABR-201008083.R2; Ridgebury Township, Bradford County, Pa.; Consumptive Use of Up to 4.0000 mgd; Approval Date: February 9, 2023.

9. EXCO Resources (PA), LLC; Pad ID: COP Tract 727 (Pad 3); ABR-201211011.R2; Gallagher Township, Clinton County, Pa.; Consumptive Use of Up to 8.0000 mgd; Approval Date: February 9, 2023.

10. Repsol Oil & Gas USA, LLC; Pad ID: ABELL LIVING TRUST (05 082); ABR-201011052.R2; Warren Township, Bradford County, Pa.; Consumptive Use of Up to 6.0000 mgd; Approval Date: February 9, 2023.

11. SWN Production Company, LLC; Pad ID: MULLOY PAD; ABR-201209008.R2; Jackson Township, Susquehanna County, Pa.; Consumptive Use of Up to 4.9990 mgd; Approval Date: February 9, 2023.

12. SWN Production Company, LLC; Pad ID: TI-01 Mase Monte; ABR-201711002.R1; Liberty Township, Tioga County, Pa.; Consumptive Use of Up to 4.9990 mgd; Approval Date: February 9, 2023.

13. Blackhill Energy LLC; Pad ID: KINGSLEY 4H; ABR-201008079.R2; Springfield Township, Bradford County, Pa.; Consumptive Use of Up to 4.9900 mgd; Approval Date: February 14, 2023.

14. Repsol Oil & Gas USA, LLC; Pad ID: HUTCHINSON (05 165) R; ABR-201011064.R2; Warren Township, Bradford County, Pa.; Consumptive Use of Up to 6.0000 mgd; Approval Date: February 16, 2023.

15. Coterra Energy Inc.; Pad ID: HordisC P1; ABR-201211016.R2; Lathrop Township, Susquehanna County, Pa.; Consumptive Use of Up to 5.0000 mgd; Approval Date: February 20, 2023.

16. Seneca Resources Company, LLC; Pad ID: Neal 815; ABR-201011058.R2; Chatham Township, Tioga County, Pa.; Consumptive Use of Up to 4.0000 mgd; Approval Date: February 20, 2023.

17. Seneca Resources Company, LLC; Pad ID: Propheta 288; ABR-201011078.R2; Charleston Township, Tioga County, Pa.; Consumptive Use of Up to 4.0000 mgd; Approval Date: February 20, 2023.

18. Seneca Resources Company, LLC; Pad ID: Sevem 474; ABR-201011071.R2; Charleston Township, Tioga County, Pa.; Consumptive Use of Up to 4.0000 mgd; Approval Date: February 20, 2023.

19. SWN Production Company, LLC; Pad ID: HARRIS PAD; ABR-201211015.R2; Harford Township, Susquehanna County, Pa.; Consumptive Use of Up to 4.9990 mgd; Approval Date: February 20, 2023.

20. SWN Production Company, LLC; Pad ID: LOKE PAD; ABR-201211014.R2; New Milford Township, Susquehanna County, Pa.; Consumptive Use of Up to 4.9990 mgd; Approval Date: February 20, 2023.

21. Chesapeake Appalachia, L.L.C.; Pad ID: Allen Drilling Pad; ABR-201009002.R2.1; Asylum Township, Bradford County, Pa.; Consumptive Use of Up to 7.5000 mgd; Approval Date: February 20, 2023.

22. Chesapeake Appalachia, L.L.C.; Pad ID: Kerrick Drilling Pad; ABR-201103040.R2.1; Asylum Township, Bradford County, Pa.; Consumptive Use of Up to 7.5000 mgd; Approval Date: February 20, 2023.

23. Chesapeake Appalachia, L.L.C.; Pad ID: Bishop Drilling Pad; ABR-201212014.R2; Auburn Township, Susquehanna County, Pa.; Consumptive Use of Up to 7.5000 mgd; Approval Date: February 26, 2023.

24. Chesapeake Appalachia, L.L.C.; Pad ID: Harvey Drilling Pad; ABR-201212015.R2; Lemon Township, Wyoming County, Pa.; Consumptive Use of Up to 7.5000 mgd; Approval Date: February 26, 2023.

25. Chesapeake Appalachia, L.L.C.; Pad ID: SGL 12 N WEST DRILLING PAD; ABR-201801001.R1; Leroy Township, Bradford County, Pa.; Consumptive Use of Up to 7.5000 mgd; Approval Date: February 26, 2023.

26. Coterra Energy Inc.; Pad ID: KielarD P1; ABR-201112002.R2; Lathrop Township, Susquehanna County, Pa.; Consumptive Use of Up to 5.0000 mgd; Approval Date: February 26, 2023.

27. SWN Production Company, LLC; Pad ID: SHELDON EAST PAD; ABR-201211013.R2; Thompson Township, Susquehanna County, Pa.; Consumptive Use of Up to 4.9990 mgd; Approval Date: February 26, 2023.

28. Chesapeake Appalachia, L.L.C.; Pad ID: Cochran Drilling Pad; ABR-201301003.R2; West Burlington Township, Bradford County, Pa.; Consumptive Use of Up to 7.5000 mgd; Approval Date: February 28, 2023.

29. Coterra Energy Inc.; Pad ID: TeddickM P3; ABR-201212006.R2; Brooklyn Township, Susquehanna County, Pa.; Consumptive Use of Up to 5.0000 mgd; Approval Date: February 28, 2023.

30. Seneca Resources Company, LLC; Pad ID: I G Coveney Revocable LVG Trust 282; ABR-201012032.R2; Richmond Township, Tioga County, Pa.; Consumptive Use of Up to 4.0000 mgd; Approval Date: February 28, 2023.

31. SWN Production Company, LLC; Pad ID: PLATUS PAD; ABR-201212004.R2; New Milford Township, Susquehanna County, Pa.; Consumptive Use of Up to 4.9990 mgd; Approval Date: February 28, 2023.

32. SWN Production Company, LLC; Pad ID: RACINE PAD; ABR-201212003.R2; New Milford Township, Susquehanna County, Pa.; Consumptive Use of Up to 4.9990 mgd; Approval Date: February 28, 2023.

Authority: Public Law 91-575, 84 Stat. 1509 et seq., 18 CFR parts 806 and 808.

Dated: March 9, 2023.
Jason E. Oyler,
General Counsel and Secretary to the Commission.

[FR Doc. 2023-05244 Filed 3-14-23; 8:45 am]

BILLING CODE 7040-01-P